DEPARTMENT OF HOMELAND SECURITY

Federal Emergency Management Agency

[Docket ID FEMA-2008-0017]

Voluntary Private Sector Accreditation and Certification Preparedness Program

AGENCY: Federal Emergency Management Agency, DHS.

ACTION: Public meeting notice.

SUMMARY: This notice announces the date, time, location, and discussion topics for a stakeholder meeting open to the public to engage in dialogue with Department of Homeland Security (DHS) leadership and program managers regarding the Voluntary Private Sector Preparedness Accreditation and Certification Program (PS-Prep).

DATES: Tuesday, January 13, 2009, 9 a.m.-2:30 p.m.

ADDRESSES: The meeting will be held at the U.S. Chamber of Commerce, 1615 H Street, NW., Washington, DC 20062.

Instructions: Any stakeholder or member of the public who wishes to attend the public meeting or make a presentation is requested to provide his or her name and contact details, to include e-mail address and telephone number, no later than 5 p.m. Eastern Standard Time, Friday, January 9, 2009 via e-mail to the PS-Prep Program at privatesectorpreparedness@hsi.dhs.gov, or via telephone at (703) 416-8407. Everyone who plans to attend the meeting is respectfully requested to be present and seated by 8:45 a.m. Persons with disabilities who require special assistance should indicate this in their admittance request and are encouraged to identify anticipated special needs as early as possible. Although every effort will be made to accommodate all members of the public, seating is limited and will be allocated on a first-come, first-served basis.

FOR FURTHER INFORMATION CONTACT: Mr. Donald Grant, Incident Management Systems Integration Division, National Preparedness Directorate, National Integration Center, 500 C Street, SW., Washington, DC 20472. Phone: 202-646-3850 or e-mail: FEMA-NIMS@dhs.gov.

SUPPLEMENTARY INFORMATION: On December 24, 2008, the Federal Emergency Management Agency (FEMA), Department of Homeland Security (DHS), published a notice “Voluntary Private Sector Accreditation and Certification Preparedness Program,” announcing PS-PREP, a DHS program established under the authority of Title IX of the 9/11 Recommendations Act, Public Law 110-53, 121 Stat. 266, 338 (Aug. 3, 2007) (9/11 Recommendations Act). See 73 FR 79140; also available at http://www.regulations.gov/search/index.jsp. As discussed in the notice, DHS is developing PS-PREP to raise the level of private sector preparedness through a number of means, including: (i) Establishing a system for DHS to adopt private sector preparedness standards; (ii) encouraging creation of those standards; (iii) developing a method for a private sector entity to obtain a certification of conformity with a particular DHS-adopted private sector standard, and encouraging such certification; and (iv) making preparedness standards adopted by DHS more widely available.

The December 24 notice seeks recommendations from private sector stakeholders and the public at large regarding the private sector standards that DHS should adopt, both initially and over time. 73 FR at 79142. The December 24 notice also states that DHS intends to hold two public meetings in Washington, DC to provide a forum for public comment. 73 FR at 79145.

This notice announces the first of those meetings. FEMA is hosting a public meeting to discuss issues of interest pertaining to the PS-Prep Program. The purpose of this meeting is to provide an open forum for additional comment and dialogue with DHS on the PS-Prep Program. Individuals desiring to participate will have the opportunity to make a brief, formal or informal, presentation of not more than 10 minutes and then, if desired, engage in a questions and answers session with DHS staff responsible for implementing the PS-Prep Program. The specific issues to be discussed at this meeting will follow the information requested in the December 24 notice: Adoption of private sector preparedness standards; comments regarding a maturity model process improvement approach; small business participation and concerns; comments regarding the business case; and comments regarding the accreditation process and certification process.

Public attendance is encouraged. This will assist with the preparation of meeting materials and seating arrangements.

Dennis R. Schrader,
Deputy Administrator, National Preparedness Directorate, Federal Emergency Management Agency.

[FR Doc. E8-31155 Filed 12-31-08; 8:45 am]

BILLING CODE 9110-10-P